DEPARTMENT OF VETERANS AFFAIRS

Advisory Committee on Minority Veterans, Amended Notice of Meeting

The Department of Veterans Affairs (VA) gives notice that the Advisory Committee on Minority Veterans will be held in Saint Louis, Missouri from April 17-19, 2018, at the below times and locations:

On April 17, from 8:45 a.m. to 12:00 p.m., at the VA St. Louis Health Care System—John Cochran Division, Bldg. 2, Education Wing, Room 141 & 142, 915 North Grand Blvd., St. Louis, Missouri.

On April 18, from 9:00 a.m. to 11:00 a.m., at the Jefferson National Cemetery, 2900 Sheridan Road, Saint Louis, MO; from 4:30 p.m. to 6:30 p.m., conducting a Town Hall Meeting at the Harris-Stowe State University (HSSU) William L. Clay Sr. Early Childhood Center's Professional Development Auditorium—Room 204, 3026 Laclede Ave., Saint Louis, MO.

On April 19, from 8:30 a.m. to 4:00 p.m., at the VA St. Louis Health Care System—John Cochran Division, Bldg. 2, Education Wing, Room 141 & 142, 915 North Grand Blvd., Saint Louis, MO.

The purpose of the Committee is to advise the Secretary on the administration of VA benefits and services to minority Veterans, to assess the needs of minority Veterans and to evaluate whether VA compensation and pension, medical and rehabilitation services, memorial services outreach, and other programs are meeting those needs.

The Committee will make recommendations to the Secretary regarding such activities subsequent to the meeting.

On the morning of April 17 from 8:45 a.m. to 11:00 a.m., the Committee will meet in open session with key staff at the VA Saint Louis Health Care System—John Cochran Division to discuss services, benefits, delivery challenges, and successes. From 11:00 a.m. to 12:00 p.m., the Committee will convene a closed session in order to protect patient privacy as the Committee tours the VA Health Care System. The Committee will reconvene in a closed session from 2:00 p.m. to 4:30 p.m. as it receives the Veterans' benefits briefing and tours the Veterans Benefits Administration staff from the Saint Louis Regional Benefit Office.

On the morning of April 18 from 9:00 a.m. to 11:00 a.m., the Committee will convene in open session at the Jefferson Barracks National Cemetery followed by a tour of the cemetery. The Committee will meet with key staff to discuss services, benefits, delivery challenges and successes. In the evening, the Committee will hold a Veterans Town Hall meeting beginning at 4:30 p.m., at the Harris-Stowe State University (HSSU) William L. Clay Sr. Early Childhood Center in the Professional Development Auditorium—Room204.

On the morning of April 19 from 8:30 a.m. to 12:00 p.m., the Committee will convene in open session at the VA Saint Louis Health Care System—John Cochran Division to conduct an exit briefing with leadership from the VA Saint Louis Health Care System, Saint Louis Regional Benefit Office, and Jefferson Barracks National Cemetery. In the afternoon from 1:00 p.m. to 4:00 p.m., the Committee will work on drafting recommendations for the annual report to the Secretary.

Sessions are open to the public, except when the Committee is conducting tours of VA facilities, participating in off-site events, and participating in workgroup sessions. Tours of VA facilities are closed, to protect from disclosure Veterans' information the disclosure of which would constitute a clearly unwarranted invasion of personal privacy.

Time will be allocated for receiving public comments on April 19, at 10 a.m. Public comments will be limited to three minutes each. Individuals wishing to make oral statements before the Committee will be accommodated on a first-come first serve basis. Individuals who speak are invited to submit a 1-2 page summaries of their comments at the time of the meeting for inclusion in the official record. The Committee will accept written comments from interested parties on issues outlined in the meeting agenda, as well as other issues affecting minority Veterans. Such comments should be sent to Ms. Juanita Mullen, Advisory Committee on Minority Veterans, Center for Minority Veterans (00M), Department of Veterans Affairs, 810 Vermont Avenue NW, Washington, DC 20420, or email at Juanita.Mullen@va.gov. For additional information about the meeting, please contact Ms. Juanita Mullen at (202) 461-6199.

Dated: April 5, 2018.
Jelessa M. Burney,
Federal Advisory Committee Management Officer.

[FR Doc. 2018-07323 Filed 4-9-18; 8:45 am]

BILLING CODE P